DEPARTMENT OF DEFENSE

Department of the Army, Engineer Corps

DEPARTMENT OF THE INTERIOR

Bureau of Reclamation

Withdrawal of the Notice of Intent To Prepare a Supplemental Environmental Impact Statement (SEIS) for the Columbia River System Operations

AGENCY: U.S. Army Corps of Engineers, Department of the Army, DoD; Bureau of Reclamation, Interior.

ACTION: Notice of intent; withdrawal.

SUMMARY: The U.S. Army Corps of Engineers and Bureau of Reclamation (Co-Lead Agencies) are withdrawing the “Notice of Intent to Prepare a Supplemental Environmental Impact Statement (SEIS) for the Columbia River System Operations,” published in the Federal Register on December 18, 2024.

DATES: The notice of intent to prepare a SEIS published in the Federal Register on December 18, 2024, is withdrawn.

ADDRESSES: U.S. Army Corps of Engineers Northwestern Division Attn: CRSO SEIS, P.O. Box 2870, Portland, OR 97208-2870; or by email to columbiariver@usace.army.mil.

FOR FURTHER INFORMATION CONTACT: Tim Fleeger, Biological Scientist, Northwestern Division, U.S. Army Corps of Engineers 1 (800) 290-5033 or email columbiariver@usace.army.mil. Additional information can be found at the project website: https://www.nwd.usace.army.mil/columbiariver/.

SUPPLEMENTARY INFORMATION: In accordance with the Presidential Memorandum titled Stopping Radical Environmentalism to Generate Power for the Columbia Basin dated June 12, 2025, the Co-Lead Agencies are withdrawing the Notice of Intent to Prepare a Supplemental Environmental Impact Statement (SEIS) for the Columbia River System Operations published in the Federal Register on December 18, 2024 (89 FR 102869). The Co-Lead Agencies will follow appropriate next steps as directed in the Presidential Memorandum. The Co-Lead Agencies continue to operate and maintain the 14 projects that make up the Columbia River System consistent with the selected alternative from the 2020 Columbia River System Operations Environmental Impact Statement Record of Decision, the current Biological Opinions, and relevant operating documents. The U.S. Army Corps of Engineers continues to operate the Lower Snake River dams as authorized by Congress.

William C. Hannan,
Brigadier General, U.S. Army, Division Commander.
Roland K. Springer,
Acting Regional Director, Columbia-Pacific Northwest Region, Bureau of Reclamation.

[FR Doc. 2025-12604 Filed 7-3-25; 8:45 am]

BILLING CODE 3720-58-P